DEPARTMENT OF THE INTERIOR

Bureau of Land Management

[UTU-42903, UTU-42913, UTU-42914, UTU-42916, UTU-42922, UTU-079344, UTU-087798, and UTU-0105337]

Proposed Continuation of Withdrawals; Utah

AGENCY: Bureau of Land Management, Interior.

ACTION: Notice of Proposed Realty Action.

SUMMARY: The Bureau of Reclamation (BOR) proposes that 9 withdrawals for the Provo River Project be continued for 20 years. The lands are still needed for the purpose for which they were withdrawn. The lands would remain withdrawn as specified in the orders.

DATES: Comments must be received on or before January 7, 2009.

ADDRESSES: Comments should be sent to the Regional Director, BOR, Upper Colorado Regional Office, 125 South State Street, Room 6107, Salt Lake City, Utah 84138-1147, Attn. Dalia Hernandez.

FOR FURTHER INFORMATION CONTACT: Dalia Hernandez, BOR, at the above address, 801-524-3763, or dhernandez@uc.usbr.gov or Rhonda Flynn, Bureau of Land Management, Utah State Office, 440 West 200 South, Suite 500, Salt Lake City, Utah 84101-1345, 801-539-4132 or rhonda_flynn@blm.gov.

SUPPLEMENTARY INFORMATION: The BOR has determined that the lands are still needed for reclamation purposes. Two of the Secretarial Orders have the same date. Copies of the Secretarial Orders and Public Land Orders containing a legal description of the lands involved are available from the BOR at the address above.

The BOR proposes that the withdrawals made by the Secretarial Orders dated June 17, 1905, April 18, 1939, November 19, 1940, January 15, 1942, January 15, 1942, and September 23, 1943; and Public Land Order No. 3163 (28 FR 7986), Public Land Order No. 3169 (28 FR 7988), and Public Land Order No. 3170 (28 FR 7988) which withdrew lands on behalf of the Bureau of Reclamation for the Provo River Project be continued for a period of 20 years. The lands would remain withdrawn as specified in the orders.

The lands referenced aggregate approximately 5,463 acres in Duchesne, Salt Lake, Summit, Utah, and Wasatch Counties.

For a period of 90 days from the date of publication of this notice, all persons who wish to submit comments, suggestions, or objections in connection with the proposed action may present their views in writing to the BOR Regional Director, at the address above.

Comments, including names and street addresses of respondents, and records relating to the proposed land transfer will be available for public review during regular business hours at the BOR Regional Office at the address above. Individual respondents may request confidentiality. Before including your address, phone number, e-mail address, or other personal identifying information in your comment, you should be aware that your entire comment—including your personal identifying information—may be made publicly available at any time. While you can ask us in your comment to withhold your personal identifying information from public review, we cannot guarantee that we will be able to do so.

Authority: 43 CFR 2310.3-1.

Dated: October 2, 2008.
Donald R. Banks,
State Director, Acting.

[FR Doc. E8-23969 Filed 10-8-08; 8:45 am]

BILLING CODE 4310-MN-P